DEPARTMENT OF THE INTERIOR

National Park Service

[NPS-WASO-NAGPRA-NPS0039145; PPWOCRADN0-PCU00RP14.R50000]

Notice of Proposed Transfer or Reinterment: Monterey Peninsula College, Monterey, CA

AGENCY: National Park Service, Interior.

ACTION: Notice.

SUMMARY: In accordance with the Native American Graves Protection and Repatriation Act (NAGPRA), the Monterey Peninsula College proposes to reinter human remains listed in a Notice of Inventory Completion published in the Federal Register on May 13, 2024.

DATES: Reinterment of the human remains in this notice may occur on or after January 6, 2025.

FOR FURTHER INFORMATION CONTACT: Jon Knolle, Vice President of Academic Affairs, Monterey Peninsula College, Monterey, CA 93940, telephone (831) 646-3030, email jknolle@mpc.edu. Individuals who are deaf, deafblind, hard of hearing, or have a speech disability may dial 711 (TTY, TDD, or TeleBraille) to access telecommunications relay services. Individuals outside the United States should use the relay services offered within their country to make international calls to the point-of-contact in the United States.

SUPPLEMENTARY INFORMATION: This notice is published as part of the National Park Service's administrative responsibilities under NAGPRA. The determinations in this notice are the sole responsibility of the Monterey Peninsula College, and additional information on the determinations in this notice, including the results of consultation, can be found in its inventory or related records. The National Park Service is not responsible for the determinations in this notice.

Abstract of Information Available

This notice follows publication of a Notice of Inventory Completion in the Federal Register (89 FR 41465-41466, May 13, 2024). Human remains representing, at least, one individual has been identified. At unknown dates, the human remains, which consist of one skull, multiple teeth, and multiple bones and bone fragments, from unknown locations, likely in Monterey, CA, and deposited at the Monterey Peninsula College Anthropology Department. The College found articles from a former student from the 1960s indicating human remains were discovered in Monterey, CA, “12 miles south of Point Lobos” and “near Jack's Peak” by a former student and donated to the College. The College has no evidence that the human remains referenced in the article are those listed in this notice other than the location of the human remains. No further information is known about the provenience of these human remains.

Consultation

Invitations to consult were sent to the Tule River Indian Tribe of the Tule River Reservation, California and to the following non-federally recognized Indian groups: Amah Mutsun Tribal Band in Galt, CA; Amah Mutsun Tribal Band of Mission San Juan Bautista in Lakeport, CA; Costanoan Ohlone Rumsen-Mutsen Tribe in Watsonville, CA; Costanoan Rumsen Carmel Tribe in Pomona, CA; Esselen Tribe of Monterey County in Carmel Valley, CA; Indian Canyon Mutsun Band of Costanoan in Hollister, CA; Muwekma Ohlone Indian Tribe of the SF Bay Area in Castro Valley, CA; North Valley Yokuts Tribe in Linden, CA; Ohlone/Costanoan-Esselen Nation in Monterey, CA; The Ohlone Indian Tribe in Fremont, CA; KaKoon Ta Ruk Band of Ohlone-Costanoan Indians of the Big Sur Rancheria in Woodland, CA; Rumsen Am:a Tur:ataj Ohlone in Hesperia, CA; and Tamien Nation in San Jose, CA.

The Ohlone/Costanoan Esselen Nation responded to the invitation and participated in consultation.

Cultural Affiliation

The following types of information about the cultural affiliation of the human remains in this notice are available: geographical and other relevant information.

The information, including the results of consultation, identified:

1. The Ohlone/Costanoan Esselen Nation as an earlier group connected to the human remains.

2. The Tule River Indian Tribe of the Tule River Reservation, California as an Indian Tribe connected to the human remains.

3. No relationship of shared group identity between the earlier group and the Indian Tribe that can be reasonably traced through time.

Determinations

The Monterey Peninsula College has determined that:

• The human remains described in this notice represent the physical remains of one individual of Native American ancestry.

• No known lineal descendant who can trace ancestry to the human remains in this notice has been identified.

• No Indian Tribe or Native Hawaiian organization with cultural affiliation to the human remains in this notice has been clearly or reasonably identified.

• The human remains will be reinterred according to applicable laws and policies.

Requests for Repatriation

Written requests for repatriation of the human remains in this notice must be sent to the authorized representative identified in this notice under FOR FURTHER INFORMATION CONTACT. Requests for repatriation may be submitted by any lineal descendant, Indian Tribe, or Native Hawaiian organization who shows, by a preponderance of the evidence, that the requestor is a lineal descendant or an Indian Tribe or Native Hawaiian organization with cultural affiliation.

Repatriation, transfer, or reinterment of the human remains described in this notice may occur on or after January 6, 2025. If requests for repatriation are received, the Monterey Peninsula College must evaluate the requests and respond in writing to the requestors. The Monterey Peninsula College is responsible for sending a copy of this notice to any consulting lineal descendant, Indian Tribe, or Native Hawaiian organization.

Authority: Native American Graves Protection and Repatriation Act, 25 U.S.C. 3003, and the implementing regulations, 43 CFR 10.10.

Dated: November 22, 2024.
Melanie O'Brien,
Manager, National NAGPRA Program.

[FR Doc. 2024-28500 Filed 12-4-24; 8:45 am]

BILLING CODE 4312-52-P